DEPARTMENT OF TRANSPORTATION

Federal Aviation Administration

14 CFR Part 39

[Docket No. FAA-2004-19542; Directorate Identifier 2003-NM-282-AD; Amendment 39-14005; AD 2005-05-16]

RIN 2120-AA64

Airworthiness Directives; Airbus Model A300 B4-622R and A300 F4-622R Airplanes

AGENCY: Federal Aviation Administration (FAA), Department of Transportation (DOT).

ACTION: Final rule.

SUMMARY: The FAA is adopting a new airworthiness directive (AD) for certain Airbus Model A300 B4-622R and A300 F4-622R airplanes. This AD requires doing a one-time inspection to determine if lower guide fittings for the forward doors are installed in the correct positions, and corrective action if necessary. This AD is prompted by reports that lower guide fittings for the forward doors were found installed in the wrong positions at frames 14 and 16A. We are issuing this AD to prevent difficulty opening the forward doors, which could impede an emergency evacuation and result in injury to passengers or crewmembers.

DATES: This AD becomes effective April 18, 2005.

The incorporation by reference of a certain publication listed in the AD is approved by the Director of the Federal Register as of April 18, 2005.

ADDRESSES: For service information identified in this AD, contact Airbus, 1 Rond Point Maurice Bellonte, 31707 Blagnac Cedex, France.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2004-19542; the directorate identifier for this docket is 2004-NM-282-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The FAA proposed to amend 14 CFR Part 39 with an AD for certain Airbus Model A300 B4-622R and A300 F4-622R airplanes. That action, published in the Federal Register on November 5, 2004 (69 FR 64504), proposed to require doing a one-time inspection to determine if lower guide fittings for the forward doors are installed in the correct positions, and corrective action if necessary.

Comments

We provided the public the opportunity to participate in the development of this AD. No comments have been submitted on the proposed AD or on the determination of the cost to the public.

Conclusion

We have carefully reviewed the available data and determined that air safety and the public interest require adopting the AD as proposed.

Costs of Compliance

This AD will affect about 25 airplanes of U.S. registry. The required actions will take about 2 work hours per airplane, at an average labor rate of $65 per work hour. Based on these figures, the estimated cost of the AD for U.S. operators is $3,250, or $130 per airplane.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-05-16 Airbus: Amendment 39-14005. Docket No. FAA-2004-19542; Directorate Identifier 2003-NM-282-AD.

Effective Date

(a) This AD becomes effective April 18, 2005.

Affected ADs

(b) None.

Applicability

(c) This AD applies to Airbus Model A300 B4-622R airplanes, serial numbers 0797 and 0836 inclusive; and Model A300 F4-622R airplanes, serial numbers 0805 through 0828 inclusive; certificated in any category.

Unsafe Condition

(d) This AD was prompted by reports that lower guide fittings for the forward doors were found installed in the wrong positions at frames 14 and 16A. We are issuing this AD to prevent difficulty opening the forward doors, which could impede an emergency evacuation and result in injury to passengers or crewmembers.

Compliance

(e) You are responsible for having the actions required by this AD performed within the compliance times specified, unless the actions have already been done.

Inspection and Corrective Action

(f) Within 600 flight hours after the effective date of this AD, do a one-time detailed inspection to determine if lower guide fittings for the forward doors are installed in the correct positions, in accordance with the Accomplishment Instructions of Airbus Service Bulletin A300-53-6140, Revision 01, dated November 24, 2003.

(1) If the lower guide fittings are installed in the correct positions: No further action is required by this AD.

(2) If any lower guide fitting is not installed in the correct position: Before further flight, re-install the lower guide fitting in the correct position, or replace the lower guide fitting with a new, improved guide fitting, as applicable, in accordance with the service bulletin.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Actions Accomplished In Accordance With Previous Issue of Service Bulletin

(g) Inspections and corrective actions accomplished before the effective date of this AD in accordance with Airbus Service Bulletin A300-53-6140, dated June 12, 2003, are considered acceptable for compliance with the corresponding actions specified in this AD.

No Reporting Requirement

(h) The Accomplishment Instructions of Airbus Service Bulletin A300-53-6140, Revision 01, dated November 24, 2003, describe procedures for reporting inspection findings to the manufacturer. This AD does not require this reporting.

Alternative Methods of Compliance (AMOCs)

(i) The Manager, International Branch, ANM-116, Transport Airplane Directorate, FAA, has the authority to approve AMOCs for this AD, if requested in accordance with the procedures found in 14 CFR 39.19.

Related Information

(j) French airworthiness directive 2003-292(B), dated August 6, 2003, also addresses the subject of this AD.

Material Incorporated by Reference

(k) You must use Airbus Service Bulletin A300-53-6140, Revision 01, dated November 24, 2003, excluding Appendix 01, to perform the actions that are required by this AD, unless the AD specifies otherwise. The Director of the Federal Register approves the incorporation by reference of this document in accordance with 5 U.S.C. 552(a) and 1 CFR part 51. For copies of the service information, contact Airbus, 1 Rond Point Maurice Bellonte, 31707 Blagnac Cedex, France. For information on the availability of this material at the National Archives and Records Administration (NARA), call (202) 741-6030, or go to http://www.archives.gov/federal_register/code_of_federal_regulations/ibr_locations.html.

You may view the AD docket at the Docket Management Facility, U.S. Department of Transportation, 400 Seventh Street SW., room PL-401, Nassif Building, Washington, DC.

Issued in Renton, Washington, on March 2, 2005.
Ali Bahrami,
Manager, Transport Airplane Directorate, Aircraft Certification Service.

[FR Doc. 05-4828 Filed 3-11-05; 8:45 am]

BILLING CODE 4910-13-P